LIBRARY OF CONGRESS

Copyright Office

37 CFR Parts 201, 251, 252, 257 and 259

[Docket No. 2004-4]

Communications With the Copyright Office: Change of Address

AGENCY: Copyright Office, Library of Congress.

ACTION: Final rule.

SUMMARY: The Copyright Office is amending its regulations to reflect a change and/or correction in the filing address for hand-delivered correspondence, claims and other documents intended for the Office of the Copyright General Counsel. The amendments direct such document deliveries to the appropriate location. The Office is also making minor changes to other addresses found in its regulations and adopting several changes proposed earlier.¹ These amendments facilitate communication with the Office in a timely and effective manner.

¹ During the last few years there have been a number of delays in receipt of mail addressed to the Office. For this reason, everyone who must communicate with the Office quickly should check the Office's Web site for the most current information or call the Public Information Office.

DATES: Effective Date: June 30, 2004.

FOR FURTHER INFORMATION CONTACT: Marilyn J. Kretsinger, Associate General Counsel, or Sandra L. Jones, Writer-editor. Telephone: (202) 707-8380. Telefax: (202) 707-8366.

SUPPLEMENTARY INFORMATION: The Copyright Office is amending its regulations regarding communication with the Office. It is changing and/or correcting the address for hand-delivered filings, claims and other documents intended for the Office of the Copyright General Counsel. The amendments change the address for receipt of these documents from Room 403 to Room 401 of the James Madison Memorial Building. They also revise the regulations to distinguish between the delivery of documents hand delivered by private parties and those hand delivered by commercial couriers. These changes to delivery have already been published in the Federal Register.² The Office is also making technical adjustments to other addresses contained in the regulations and adopting some changes regarding communications with the Office that were proposed at an earlier date. 65 FR 3404 (Jan. 21, 2000).

² The Office has already published two policy announcements in the Federal Register concerning delivery of materials by either commercial carrier, see 68 FR 5371 (Feb. 4, 2004) or a private party, see 68 FR 70039 (Dec. 16, 2003).

List of Subjects

37 CFR Part 201

Copyright.

37 CFR Part 251

Copyright, Copyright Arbitration Royalty Panel.

37 CFR Part 252

Cable television, Claims, Copyright.

37 CFR Part 257

Claims, Copyright, Satellite television.

37 CFR Part 259

Claims, Copyright, Digital audio recording devices and media.

Final Regulations

For the reasons set forth in the preamble, the Copyright Office amends 37 CFR chapter II as follows:

PART 201—GENERAL PROVISIONS

1. The authority citation for part 201 continues to read as follows:

Authority: 17 U.S.C. 702.

2. Section 201.1 is revised to read as follows:

§ 201.1 Communication with the Copyright Office.

(a) General purpose addresses. Members of the public must use the correct address in order to facilitate timely receipt by the copyright division or section to which an inquiry should be directed. The following addresses may be used for general inquiries made to a particular division or section of the Copyright Office. Addresses for special, limited purposes are provided below in paragraph (b) of this section. Anyone who is not certain where a particular inquiry should be directed, should inquire about the proper address through the “Contact us” section on the Office's Web site (http://www.copyright.gov) or call the Public Information Office at (202) 707-3000.

(1) In general. Mail and other communications which do not come under the areas listed in paragraph (a) or (b) of this section shall be addressed to the Library of Congress, Copyright Office, 101 Independence Avenue, SE., Washington, DC 20559-6000.

(2) Inquiries to Licensing Division. Inquiries about filings related to the compulsory licenses (17 U.S.C. 111, 112, 114, 115, 118, 119, 122 and chapter 10) should be addressed to the Library of Congress, Copyright Office, Licensing Division, 101 Independence Avenue, SE., Washington, DC 20557-6400.

(3) Copies of records or deposits. Requests for copies of records or deposits for use in litigation or other authorized purposes should be addressed to the Certifications and Documents Section, LM-402, Library of Congress, Copyright Office, 101 Independence Avenue, SE., Washington, DC 20559-6302.

(4) Search of records. Requests for searches of registrations and recordations in the completed catalogs, indexes, and other records of the Copyright Office should be addressed to the Reference and Bibliography Section, LM-450, Library of Congress, Copyright Office, 101 Independence Avenue, SE., Washington, DC 20559-6306. Records dating from January 1, 1978, forward are available for searching on the Copyright Office's Web site at http://www.copyright.gov: COHM, which includes information on all registrations except serials; COHD, which includes information on recordations; and COHS, which includes information on serials.

(b) Limited purpose addresses. The following addresses may be used only in the special, limited circumstances given for a particular Copyright Office service:

(1) Time sensitive requests. Freedom of Information (FOIA) requests; notices of filing of copyright infringement lawsuits; ³ comments for rulemaking proceedings; requests for Copyright Office speakers; requests for approvals of computer generated application forms; requests for expedited service from either the Certifications and Documents Section or Reference and Bibliography Section to meet the needs of pending or prospective litigation, customs matters or contract or publishing deadlines should be addressed to: Copyright GC/I&R, P.O. Box 70400, Southwest Station, Washington, DC 20024-0400.

³ All litigation material is time sensitive and must be addressed to the appropriate section of the Copyright Office; the Office is also publishing new regulations governing legal process.

(2) Copyright Arbitration Royalty Panels (CARPs). CARP claims, filings, and general CARP correspondence should be mailed to: Copyright Arbitration Royalty Panel (CARP), P.O. Box 70977, Southwest Station, Washington, DC 20024-0977.

3. Section 201.2 is amended as follows:

a. By revising paragraph (b)(6);

b. In paragraph (b)(7), by adding two sentences after “Certifications and Documents Section.”;

c. By revising paragraph (c)(4).

The addition and revisions to § 201.2 read as follows:

§ 201.2 Information given by the Copyright Office.

* * * * *

(b) * * *

(6) Direct public access will not be permitted to any financial or accounting records, including records maintained on Deposit Accounts.

(7) * * * As the Office updates and revises certain chapters of Compendium II, it will make the information available on the Copyright Office's Web site. This information is also available for public inspection and copying in the Certifications and Documents Section.

(c) * * *

(4) The Copyright Office will not respond to any abusive or scurrilous correspondence or correspondence where the intent is unknown.

* * * * *

PART 251—COPYRIGHT ARBITRATION ROYALTY PANEL RULES OF PROCEDURE

4. The authority citation for part 251 continues to read as follows:

Authority: 17 U.S.C. 801-803.

5. Section 251.1 is revised to read as follows:

§ 251.1 Official addresses.

All claims, pleadings, and general correspondence intended for the Copyright Arbitration Royalty Panels (CARPs) must be addressed as follows:

(a) If hand delivered by a private party, use the following address: Copyright Office General Counsel/CARP, U.S. Copyright Office, James Madison Memorial Building, Room LM-401, 101 Independence Avenue, SE., Washington, DC 20559-6000. This mail must be delivered to the Public Information Office, located at this address, Monday through Friday between 8:30 a.m. and 5 p.m.

(b) If hand delivered by a commercial courier (excluding Federal Express, United Parcel Service and similar corporate courier services), use the following address: Copyright Office General Counsel/CARP, Room 403, James Madison Memorial Building, 101 Independence Avenue, SE., Washington, DC. This mail must be delivered to the Congressional Courier Acceptance Site (CCAS) located at Second and D Street, NE., Washington, DC. The CCAS will accept items from couriers with proper identification, e.g., a valid driver's license, Monday through Friday, between 8:30 a.m. and 4 p.m.

(c) If sent through the U.S. Postal Service, use the following address: Copyright Arbitration Royalty Panel, P.O. Box 70977, Southwest Station, Washington, DC 20024-0977.

(d) Federal Express, United Parcel Service and similar corporate courier services may not be used for correspondence and filings for the Copyright Arbitration Royalty Panels.

6. Section 251.54(c)(2) is revised to read as follows:

§ 251.54 Assessment of costs of arbitration panels.

* * * * *

(c) * * *

(2) In the case of a rate adjustment proceeding, the statements of cost shall be addressed as follows:

(i) If hand delivered by a private party, use the following address: Copyright Office General Counsel/CARP, U.S. Copyright Office, James Madison Memorial Building, Room LM-401, 101 Independence Avenue, SE., Washington, DC 20559-6000. This mail must be delivered to the Public Information Office, located at this address, Monday through Friday, between 8:30 a.m. and 5 p.m.

(ii) If hand delivered by a commercial courier (excluding Federal Express, United Parcel Service and similar corporate courier services), use the following address: Copyright Office General Counsel/CARP, Room 403, James Madison Memorial Building, 101 Independence Avenue, SE., Washington, DC. This mail must be delivered to the Congressional Courier Acceptance Site (CCAS) located at Second and D Street, NE., Washington, DC. The CCAS will accept items from couriers with proper identification, e.g., a valid driver's license, Monday through Friday, between 8:30 a.m. and 4 p.m.

(iii) If sent through the U.S. Postal Service, use the following address: Copyright Arbitration Royalty Panel, P.O. Box 70977, Southwest Station, Washington, DC 20024-0977.

(iv) Federal Express, United Parcel Service and similar corporate courier services may not be used for correspondence and filings for the Copyright Arbitration Royalty Panels.

* * * * *

PART 252—FILING OF CLAIMS TO CABLE ROYALTY FEES

7. The authority citation for part 252 continues to read as follows:

Authority: 17 U.S.C. 111(d)(4), 801, 803.

8. In § 252.4, paragraph (a) is revised to read as follows:

§ 252.4 Compliance with statutory dates.

(a) Claims filed with the Copyright Office shall be considered timely filed only if addressed as follows:

(1) If hand delivered by a private party, use the following address: Copyright Office General Counsel/CARP, U.S. Copyright Office, James Madison Memorial Building, Room LM-401, 101 Independence Avenue, SE., Washington, DC 20559-6000. This mail must be delivered to the Public Information Office, located at this address, Monday through Friday, between 8:30 a.m. and 5 p.m. during the month of July.

(2) If hand delivered by a commercial courier (excluding Federal Express, United Parcel Service and similar corporate courier services), use the following address: Copyright Office General Counsel/CARP, Room 403, James Madison Memorial Building, 101 Independence Avenue, SE., Washington, DC. This mail must be delivered to the Congressional Courier Acceptance Site (CCAS) located at Second and D Street, NE., Washington, DC, during the month of July. The CCAS will accept items from couriers with proper identification, e.g., a valid driver's license, Monday through Friday, between 8:30 a.m. and 4 p.m.

(3) If sent through the U.S. Postal Service, use the following address: Copyright Arbitration Royalty Panel, P.O. Box 70977, Southwest Station, Washington, DC 20024-0977. Claims sent through the U.S. Postal Service must have sufficient postage and bear a July U.S. postmark.

(4) Federal Express, United Parcel Service and similar corporate courier services may not be used for the filing of claims.

* * * * *

PART 257—FILING OF CLAIMS TO SATELLITE CARRIER ROYALTY FEES

9. The authority citation for part 257 continues to read as follows:

Authority: 17 U.S.C. 119(b)(4).

10. In § 257.4, paragraph (a) is revised to read as follows:

§ 257.4 Compliance with statutory dates.

(a) Claims filed with the Copyright Office shall be considered timely filed only if addressed as follows:

(1) If hand delivered by a private party, use the following address: Copyright Office General Counsel/CARP, U.S. Copyright Office, James Madison Memorial Building, Room LM-401, 101 Independence Avenue, SE., Washington, DC 20559-6000. This mail must be delivered to the Public Information Office, located at this address, Monday through Friday, between 8:30 a.m. and 5 p.m. during the month of July.

(2) If hand delivered by a commercial courier (excluding Federal Express, United Parcel Service and similar corporate courier services), use the following address: Copyright Office General Counsel/CARP, Room 403, James Madison Memorial Building, 101 Independence Avenue, SE., Washington, DC. This mail must be delivered to the Congressional Courier Acceptance Site (CCAS) located at Second and D Street, NE., Washington, DC, during the month of July. The CCAS will accept items from couriers with proper identification, e.g., a valid driver's license, Monday through Friday, between 8:30 a.m. and 4 p.m.

(3) If sent through the U.S. Postal Service, use the following address: Copyright Arbitration Royalty Panel, P.O. Box 70977, Southwest Station, Washington, DC 20024-0977. Claims sent through the U.S. Postal Service must have sufficient postage and bear a July U.S. postmark.

(4) Federal Express, United Parcel Service and similar corporate courier services may not be used for the filing of claims.

* * * * *

PART 259—FILING OF CLAIMS TO DIGITAL AUDIO RECORDING DEVICES AND MEDIA ROYALTY PAYMENTS

11. The authority citation for part 259 continues to read as follows:

Authority: 17 U.S.C. 1007(a)(1).

12. In § 259.5, paragraph (a) is revised to read as follows:

§ 259.5 Compliance with statutory dates.

(a) Claims filed with the Copyright Office shall be considered timely filed only if addressed as follows:

(1) If hand delivered by a private party, use the following address: Copyright Office General Counsel/CARP, U.S. Copyright Office, James Madison Memorial Building, Room LM-401, 101 Independence Avenue, SE., Washington, DC 20559-6000. This mail must be delivered to the Public Information Office, located at this address, Monday through Friday, between 8:30 a.m. and 5 p.m. during the month of January or February.

(2) If hand delivered by a commercial courier (excluding Federal Express, United Parcel Service and similar corporate courier services), use the address: Copyright Office General Counsel/CARP, Room 403, James Madison Memorial Building, 101 Independence Avenue, SE., Washington, DC. This mail must be delivered to the Congressional Courier Acceptance Site (CCAS) located at Second and D Street, NE., Washington, DC, during the month of January or February. The CCAS will accept items from couriers with proper identification, e.g., a valid driver's license, Monday through Friday, between 8:30 a.m. and 4 p.m.

(3) If sent through the U.S. Postal Service, use the following address: Copyright Arbitration Royalty Panel, P.O. Box 70977, Southwest Station, Washington, DC 20024-0977. Claims sent through the U.S. Postal Service must have sufficient postage and bear a January or February U.S. postmark.

(4) Federal Express, United Parcel Service and similar corporate courier services may not be used for the filing of claims.

* * * * *

Dated: June 24, 2004.
Marybeth Peters,
Register of Copyrights.
Approved by:
James H. Billington,
Librarian of Congress.

[FR Doc. 04-14853 Filed 6-29-04; 8:45 am]

BILLING CODE 1410-33-P